DEPARTMENT OF TRANSPORTATION

Federal Aviation Administration

14 CFR Part 71

[Docket No. FAA-2012-0099; Airspace Docket No. 12-ASO-11]

Amendment of Class D Airspace; Cocoa Beach, FL

AGENCY: Federal Aviation Administration (FAA), DOT.

ACTION: Final rule; technical amendment, correction.

SUMMARY: This action corrects an error in the legal description of a final rule; technical amendment, published in the Federal Register on April 11, 2012 that amends Class D airspace at Cocoa Beach, FL.

DATES: Effective 0901 UTC, May 31, 2012. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

Federal Register Docket No. FAA-2012-0099, Airspace Docket No. 12-ASO-11, published on April 11, 2012 (77 FR 21662), amends Class D airspace at Cape Canaveral Skid Strip, Cocoa Beach, FL. A typographical error was made in the regulatory text, stating the radius of controlled airspace at Cape Canaveral Skid Strip to be 4.4 miles, instead of 4.5 miles. This action corrects this error. Class D airspace designations are published in paragraph 5000 of FAA Order 74009.V, dated August 9, 2011, and effective September 15, 2011, which is incorporated by reference in 14 CFR 71.1. The Class D airspace designation listed in this document will be published subsequently in the Order.

Correction to Final Rule

Accordingly, pursuant to the authority delegated to me, the radius of the controlled Class D airspace area for Cape Canaveral Skid Strip, Cocoa Beach, FL, as published in the Federal Register of April 11, 2012 (77 FR 21662) (FR Doc. 2012-8558) is corrected as follows:

ASO FL D Cocoa Beach, FL [Corrected]

Cape Canaveral Skid Strip, FL

On page 21663, column 3, line 4 of the legal description, remove “within a 4.4-mile radius of the Cape Canaveral Skid Strip, and insert “within a 4.5-mile radius of the Cape Canaveral Skid Strip.”

Issued in College Park, Georgia, on April 30, 2012.
Barry A. Knight,
Manager, Operations Support Group, Eastern Service Center, Air Traffic Organization.

[FR Doc. 2012-11399 Filed 5-11-12; 8:45 am]

BILLING CODE 4910-13-P